DEPARTMENT OF AGRICULTURE

Forest Service

Keenes Horse Camp, Gifford Pinchot National Forest, Skamania County, Washington

AGENCY: Forest Service, USDA.

ACTION: Notice of availability.

SUMMARY: Pursuant to 36 CFR 219.35(b), this serves as notification that the Gifford Pinchot National Forest Land and Resource Management Plan (Forest Plan) is amended to authorize the Keenes Horse Camp Project, which was analyzed in the Keenes Horse Camp Environmental Assessment. This project is located in Township 11 North, Range 10 East, Section 34, Skamania County, Washington State. The project will close, rehabilitate and relocate eight of the existing 13 campsites at Keenes Horse Camp to better meet long-term Aquatic Conservation Strategy objectives regarding water quality and riparian condition. Construction of an access road for the relocated sites would be contrary to the Gifford Pinchot Forest Plan, which precludes new developments and road construction in the vicinity of the Keenes Horse Camp. The decision amends the Forest Plan to make an exception for relocation of the campsites and construction of the associated 400 feet of access road. A copy of the Environment, Decision Notice and Forest Plan Amendment #15 is available upon request from the Cowlitz Valley Ranger District, P.O. Box 670, Randle, WA 98377-0670.

FOR FURTHER INFORMATION CONTACT: For further information, contact Lynn Schinnell, Cowlitz Valley Ranger District, P.O. Box 670, Randle, WA 98377-0670, or phone (370) 497-1121.

Dated: April 30, 2001.
Claire Lavendel,
Forest Supervisor.

[FR Doc. 01-11458 Filed 5-7-01; 8:45 am]

BILLING CODE 3410-11-M